DEPARTMENT OF AGRICULTURE

Food and Nutrition Service

7 CFR Part 275

[FNS-2018-0043]

RIN 0584-AE64

Supplemental Nutrition Assistance Program: Non-Discretionary Quality Control Provisions of Title IV of the Agricultural Improvement Act of 2018

AGENCY: Food and Nutrition Service (FNS), USDA.

ACTION: Final rule.

SUMMARY: The Department of Agriculture (USDA) is adopting the interim final rule on non-discretionary quality control provisions of Title IV of the Agricultural Improvement Act of 2018, and its correction, as final. In this final rule, USDA is also removing one obsolete paragraph from the interim final rule due to the Office of Management and Budget's (OMB) subsequent approval of information collection activities associated with the rule.

DATES: Effective April 18, 2023.

FOR FURTHER INFORMATION CONTACT: John McCleskey, 703-457-7747, Food and Nutrition Service, 1320 Braddock Place, 5th Floor; Alexandria, Virginia 22314, SNAPQCReform@usda.gov.

SUPPLEMENTARY INFORMATION:

Background

The Department published an interim final rule on August 13, 2021, which addressed non-discretionary quality control (QC) provisions of Title IV of the Agricultural Improvement Act of 2018 (86 FR 44575). This rule became effective August 13, 2021. USDA also published a correction to that interim final rule on September 2, 2021 (86 FR 49229). The interim final rule established requirements on the use and Federal oversight of third-party contractors for the Supplemental Nutrition Assistance Program's (SNAP) QC system in State agencies; Federal QC reviewer access to State eligibility computer systems containing SNAP household information; the use of FNS' existing management evaluation process to annually review at least two State agency QC systems for integrity purposes; and inclusion of SNAP cases originally processed by the Social Security Administration in the annual review of QC cases. The rule also clarified which QC records must be kept for QC recordkeeping purposes, that QC cases must be final when submitted to FNS for Federal review, and that the OMB-approved FNS 380 QC form and all of its supporting documentation must be submitted to FNS upon completion of the State's case review.

The interim final rule also included 7 CFR 275.2(c)(4) because the rule included information-collection activities that required revision of existing OMB-approved collections. Per the interim final rulemaking, paragraph (c)(4) states that compliance with paragraph (c)(1) will not be required until paragraph (c)(4) is removed or contains a compliance date, after review of such requirements by OMB pursuant to the Paperwork Reduction Act (PRA). On July 29, 2022, OMB concluded its review of and approved the PRA requirements for the two affected collections requiring revision, OMB 0584-0074—Worksheet for the Supplemental Nutrition Assistance Program's Quality Control Reviews and OMB 0584-0303—Supplemental Nutrition Assistance Program Regulations, Part 275—Quality Control.

One comment on the interim final rule was received, sharing the commenter's general thoughts about SNAP's integrity; however, the comment was not germane to the interim final rule. No other comments were received by the November 1, 2021, comment date.

As such, USDA is adopting the interim final rule and its correction as final. In doing so, USDA is also removing 7 CFR 275.2(c)(4) from the rule due to OMB's approval of information collection activities included in 7 CFR 275.2(c)(1).

This action also affirms the information contained in the interim final rule concerning Executive Orders 12866 and the Regulatory Flexibility Act, Executive Orders 13563, 13175, and 12988.

List of Subjects in 7 CFR Part 275

Grant programs—social programs, Reporting and recordkeeping requirements.

Accordingly, the interim rule amending 7 CFR part 275, published August 13, 2021, at 86 FR 44575, and corrected September 2, 2021, at 86 FR 49229, is adopted as final with the following changes:

PART 275—PERFORMANCE REPORTING SYSTEM

1. The authority citation for part 275 continues to read as follows:

Authority: 7 U.S.C. 2011-2036.

§ 275.2 [Amended]

2. Amend § 275.2 by removing paragraph (c)(4).

Cynthia Long,
Administrator, Food and Nutrition Service.

[FR Doc. 2023-08122 Filed 4-17-23; 8:45 am]

BILLING CODE 3410-30-P